DEPARTMENT OF DEFENSE

Office of the Secretary

[Transmittal No. 17-30]

36(b)(1) Arms Sales Notification

AGENCY: Defense Security Cooperation Agency, Department of Defense.

ACTION: Notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-30 with attached Policy Justification and Sensitivity of Technology.

Dated: August 2, 2017.
Aaron Siegel,
Alternate OSD Federal Register Liaison Officer, Department of Defense.

Transmittal No. 17-30

Notice of Proposed Issuance of Letter of Offer Pursuant to Section 36(b)(1) of the Arms Export Control Act, as amended

(i) Prospective Purchaser: The Government of Switzerland

(ii) Total Estimated Value:

Major Defense Equipment * | $25 million
Other | $90 million
Total | $115 million

(iii) Description and Quantity or Quantities of Articles or Services under Consideration for Purchase:

The following defense articles and services have been requested as part of a Service Life Extension Program for Switzerland's F/A-18C/D aircraft:

Major Defense Equipment (MDE): Up to fifty (50) Multifunctional Information Distribution System Joint Tactical Radio System (MIDS JTRS) with Concurrent Multi-Net 4 (CMN-4) Capability

Non-MDE includes: Fifty (50) ARC-210 GEN 5 RT-1900A(C) radios w/Second Generation Anti-Jam Tactical UHF Radio for NATO (SATURN) frequency hopping; twenty (20) Joint Helmet Mounted Cueing System (JHMCS) Night Vision Cueing Display (NVCD); CIT Automated Dependence Surveillance-Broadcast (ADS-B) Out; software enhancements to the APG-73 radar; improvements to the F/A-18 Software Configuration Set (SCS) 29C; and sustainment for the ALQ-165 Airborne Self Protection Jammer (ASPJ) system. Operational support for these modifications will be provided through upgrades to the purchaser's unique Mission Data System. Also included are: system integration and testing; software development and integration; support equipment; spare and repair parts; maintenance personnel and pilot familiarization training; software support; publications and technical documents; U.S. Government and contractor technical assistance; and other related elements of logistics and program support.

(iv) Military Department: Navy (XX-P-LAS)

(v) Prior Related Cases, if any: SZ-P-LAN

(vi) Sales Commission, Fee, etc., Paid, Offered, or Agreed to be Paid: None

(vii) Sensitivity of Technology Contained in the Defense Article or Defense Services Proposed to be Sold: See Attached Annex.

(viii) Date Report Delivered to Congress: July 28, 2017.

* As defined in Section 47(6) of the Arms Export Control Act.

POLICY JUSTIFICATION

Government of Switzerland—F/A-18 Upgrades

The Government of Switzerland has requested the possible sale of a Service Life Extension Program for its F/A-18C/D aircraft to include up to fifty (50) Multifunctional Information Distribution System Joint Tactical Radio System (MIDS JTRS) with Concurrent Multi-Net 4 (CMN-4) capability; fifty (50) ARC-210 GEN 5 RT-1900A(C) radios w/Second Generation Anti-Jam Tactical UHF Radio for NATO (SATURN) frequency hopping; twenty (20) Joint Helmet Mounted Cueing System (JHMCS) Night Vision Cueing Display (NVCD); CIT Automated Dependence Surveillance-Broadcast (ADS-B) Out; software enhancements to the APG-73 radar; improvements to the F/A-18 Software Configuration Set (SCS) 29C; and sustainment for the ALQ-165 Airborne Self Protection Jammer (ASPJ) system. Operational support for these modifications will be provided through upgrades to the purchaser's unique Mission Data System. Also included are: System integration and testing; software development and integration; support equipment; spare and repair parts; maintenance personnel and pilot familiarization training; software support; publications and technical documents; U.S. Government and contractor technical assistance; and other related elements of logistics and program support. The estimated total case value is $115 million.

This proposed sale will contribute to the foreign policy and national security objectives of the United States by helping to improve the security of Switzerland which has been, and continues to be an important force for political stability and economic progress in Europe. Switzerland is also a member of the NATO Partnership for Peace (PfP) program.

The proposed sale will allow the Swiss Air Force to extend the useful life of its F/A-18 fighter aircraft and enhance their survivability. Further, the proposed sale will increase Switzerland's tactical aviation operational capabilities. Switzerland will have no difficulty absorbing this equipment and support into its armed forces.

The proposed sale of this equipment and support will not alter the basic military balance in the region.

The principal contractors will be the Boeing Company, McDonnell Douglas Corporation, St. Louis, MO; Data Link Solutions LLC, Wayne, NJ; Rockwell Collins, Cedar Rapids, IA; Rockwell Collins ESA Vision System LLC, Fort Worth, TX. There are no known offset agreements associated with this potential sale.

Implementation of this proposed sale will not require the assignment of any additional U.S. Government personnel or contractor representatives to Switzerland. However, multiple trips to Switzerland involving U.S. Government and contractor representatives will be required for technical reviews/support, and program management.

There will be no adverse impact on U.S. defense readiness as a result of this proposed sale.

Transmittal No. 17-30

Notice of Proposed Issuance of Letter of Offer Pursuant to Section 36(b)(1) of the Arms Export Control Act

Annex Item No. vii

(vii) Sensitivity of Technology:

1. The hardware and software being purchased is being used to upgrade Switzerland's existing F/A-18C/D Hornet aircraft. Description and classification of the hardware and software being purchased are detailed in the following paragraphs.

a. The MIDS/JTRS with CMN-4 is a secure, scalable, modular, wireless, and jam-resistant digital information system currently providing Tactical Air Navigation (TACAN), Link-16, and J-Voice to airborne, ground, and maritime joint and coalition warfighting platforms. MIDS provides real-time and low-cost information and situational awareness via digital and voice, communications within the JTRS Enterprise. The MIDS/JTRS hardware is UNCLASSIFIED. The MIDS/JTRS software requires a crypto key be loaded in order to function. The crypto key required for operation is a Controlled Cryptographic Item (CCI).

b. The ARC-210 GEN 5 RT-1990A(C) is a digital radio capable of transmit and receipt of Digital Communication System, Variable Message Format (DCS/VMF) encrypted data messages. The RT-1990 hardware is UNCLASSIFIED. The RT 1900 software requires a crypto key be loaded in order to function. The crypto key required for operation is a Controlled Cryptographic Item (CCI).

c. The AN/AVS-11 Night Vision Cueing Device (NVCD) is UNCLASSIFIED but is capable of high resolution imaging. This capability allows reduced visibility weapon delivery using Switzerland's F/A-18C/D aircraft. While the NVCD hardware is UNCLASSIFIED, this item requires Enhanced End Use Monitoring (EEUM).

2. If a technologically advanced adversary were to obtain knowledge of the specific hardware and software elements, the information could be used to develop countermeasures which might reduce weapons systems effectiveness or be used in the development of a system with similar or advanced capabilities.

3. A determination has been made that the Government of Switzerland can provide substantially the same degree of protection for the sensitive technology being released as the U.S. Government. This proposed sale is necessary to the furtherance of the U.S. foreign policy and national security objectives outlined in the policy justification.

4. All defense articles and services listed in this transmittal are authorized for release and export to the Government of Switzerland.

[FR Doc. 2017-16628 Filed 8-7-17; 8:45 am]

BILLING CODE 5001-06-P